ENVIRONMENTAL PROTECTION AGENCY

[EPA-HQ-ORD-2012-0830; FRL-11230-01-ORD]

Availability of the Draft IRIS Toxicological Review of Inorganic Arsenic

AGENCY: Environmental Protection Agency (EPA).

ACTION: Notice of public comment period.

SUMMARY: The Environmental Protection Agency (EPA) is announcing a 60-day public comment period associated with release of the draft Integrated Risk Information System (IRIS) Toxicological Review of Inorganic Arsenic. The draft document was prepared by the Center for Public Health and Environmental Assessment (CPHEA) within EPA's Office of Research and Development (ORD). EPA is releasing this draft IRIS assessment for public comment in advance of a Science Advisory Board (SAB) managed peer review. SAB will convene a public meeting to discuss the draft assessment with the public during Step 4 of the IRIS Process. The external peer reviewers will consider public comments submitted to the EPA docket in response to this notice and any others provided at the public meeting when reviewing this assessment. EPA will consider all comments submitted to the docket when revising the document post-peer review. This draft assessment is not final as described in EPA's information quality guidelines, and it does not represent, and should not be construed to represent Agency policy or views.

DATES: The 60-day public comment period begins October 16, 2023 and ends December 15, 2023. Comments must be received on or before December 15, 2023.

ADDRESSES: The IRIS Toxicological Review of Inorganic Arsenic will be available via the internet on the IRIS website at https://www.epa.gov/iris/iris-recent-additions and in the public docket at http://www.regulations.gov, Docket ID No. EPA-HQ-ORD-2012-0830.

FOR FURTHER INFORMATION CONTACT: For information on the public comment period, contact the ORD Docket at the EPA Headquarters Docket Center; telephone: 202-566-1752; facsimile: 202-566-9744; or email: Docket_ORD@epa.gov.

For technical information on the IRIS Toxicological Review of Inorganic Arsenic contact the IRIS Hotline; email: IRIS_HOTLINE@epa.gov. The IRIS Program will provide updates through the IRIS website (https://www.epa.gov/iris) and via EPA's IRIS listserv. To register for the IRIS listserv, visit the IRIS website (https://www.epa.gov/iris) or visit https://www.epa.gov/iris/forms/staying-connected-integrated-risk-information-system#connect.

For information about the peer review, please visit the EPA SAB website: https://sab.epa.gov/ords/sab/f?p=114:18:11986040837293:::RP,18:P18_ID:2631.

For technical information on the protocol, contact Mr. Dahnish Shams, Center for Public Health & Environmental Assessment email: shams.dahnish@epa.gov.

SUPPLEMENTARY INFORMATION: How to Submit Technical Comments to the Docket at https://www.regulations.gov. Submit your comments, identified by Docket ID No. EPA-HQ-ORD-2012-0830 for the Inorganic Arsenic IRIS Assessment, by one of the following methods:

• www.regulations.gov: Follow the on-line instructions for submitting comments.

• Email: Docket_ORD@epa.gov.

• Fax: 202-566-9744.

• Mail: U.S. Environmental Protection Agency, EPA Docket Center (ORD Docket), Mail Code: 28221T, 1200 Pennsylvania Avenue NW, Washington, DC 20460. The phone number is 202-566-1752.

For information on visiting the EPA Docket Center Public Reading Room, visit https://www.epa.gov/dockets. The telephone number for the Public Reading Room is 202-566-1744. The public can submit comments via www.regulations.gov or email.

Instructions: Direct your comments to docket number EPA-HQ-ORD-2012-0830 for IRIS Toxicological Review of Inorganic Arsenic. Please ensure that your comments are submitted within the specified comment period. It is EPA's policy to include all comments it receives in the public docket within the specified comment period without change and to make the comments available online at www.regulations.gov, including any personal information provided, unless a comment includes information claimed to be Confidential Business Information (CBI) or other information for which disclosure is restricted by statute. Do not submit information through www.regulations.gov or email that you consider to be CBI or otherwise protected. The www.regulations.gov website is an “anonymous access” system, which means EPA will not know your identity or contact information unless you provide it in the body of your comment. If you send an email comment directly to EPA without going through www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Wayne Cascio,
Director, Center for Public Health & Environmental Assessment.

[FR Doc. 2023-22776 Filed 10-13-23; 8:45 am]

BILLING CODE 6560-50-P